DEPARTMENT OF DEFENSE

Office of the Secretary

Senior Executive Service Performance Review Board

AGENCY: Department of Defense Office of Inspector General.

ACTION: Notice.

SUMMARY: This notice announces the appointment of the members of the Senior Executive Service (SES) Performance Review Board (PRB) for the Department of Defense Office of Inspector General (DoD OIG), as required by 5 U.S.C. 4314(c)(4). The PRB provides fair and impartial review of SES performance appraisals and makes recommendations regarding performance ratings and performance awards to the Inspector General.

DATES: Effective October 1, 2010.

FOR FURTHER INFORMATION CONTACT: Ms. Phyllis Hughes, Director, Human Capital Advisory Services, Administration and Management, DoD OIG, 400 Army Navy Drive, Arlington, VA 22202, (703) 602-4516.

SUPPLEMENTARY INFORMATION: In accordance with 5 U.S.C. 4314(c)(4), the following executives are appointed to the DoD OIG, PRB:

Ann Calvaresi Barr

Deputy Inspector General, Department of Transportation.

Geoffrey A. Cherrington

Deputy Assistant Inspector General for Investigations, General Services Administration.

Richard J. Griffin

Deputy Inspector General, Department of Veterans Affairs.

Frank P. LaRocca

Counsel to the Inspector General, National Aeronautics and Space Administration.

Robert Keith West

Assistant Inspector General for Audit Services, Department of Education.

Dated: October 6, 2010.
Mitchell S. Bryman,
Alternate OSD Federal Register Liaison Officer, Department of Defense.

[FR Doc. 2010-25548 Filed 10-8-10; 8:45 am]

BILLING CODE 5001-06-P